DEPARTMENT OF COMMERCE

International Trade Administration

[A-533-840]

Certain Frozen Warmwater Shrimp From India: Final Results of Antidumping Duty Administrative Review; 2016-2017

AGENCY: Enforcement and Compliance, International Trade Administration, Department of Commerce.

SUMMARY: The Department of Commerce (Commerce) determines that 230 companies made sales of certain frozen warmwater shrimp (shrimp) from India at less than normal value during the period of review (POR) February 1, 2016, through January 31, 2017.

DATES: Applicable July 16, 2018.

FOR FURTHER INFORMATION CONTACT: Manuel Rey or Brittany Bauer, AD/CVD Operations, Office II, Enforcement and Compliance, International Trade Administration, U.S. Department of Commerce, 1401 Constitution Avenue NW, Washington, DC 20230; telephone: (202) 482-5518 or (202) 482-3860, respectively.

SUPPLEMENTARY INFORMATION:

Background

This review covers 231 producers and/or exporters. The producers/exporters which Commerce selected for individual examination are Devi ¹ and the Liberty Group.² The producers/exporters which were not selected for individual examination are listed in the “Final Results of the Review” section of this notice.

¹ Devi consists of Devi Fisheries Limited, Satya Seafoods Private Limited, Usha Seafoods, and Devi Aquatech Private Limited.

² The Liberty Group consists of: Devi Marine Food Exports Private Ltd.; Kader Exports Private Limited; Kader Investment and Trading Company Private Limited; Liberty Frozen Foods Pvt. Ltd.; Liberty Oil Mills Ltd.; Premier Marine Products Private Limited; and Universal Cold Storage Private Limited.

On March 12, 2018, Commerce published the Preliminary Results.³ On April 11, 2018, we received a case brief from Devi and the Liberty Group (collectively, the respondents). On April 16, 2018, we received a rebuttal brief from the petitioner.⁴

³ See Certain Frozen Warmwater Shrimp from India: Preliminary Results of Antidumping Duty Administrative Review; 2016-2017, 83 FR 10665 (March 12, 2018) (Preliminary Results).

⁴ The petitioner is the Ad Hoc Shrimp Trade Action Committee.

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁵ For a complete description of the Scope of the Order, see the Memorandum, “Issues and Decision Memorandum for the Final Results of the 2015-2016 Antidumping Duty Administrative Review of Certain Frozen Warmwater Shrimp from India,” (dated concurrently with these results) (IDM), which is hereby adopted by this notice.

Analysis of Comments Received

All issues raised in the case briefs by parties are listed in the Appendix to this notice and addressed in the IDM. Parties can find a complete discussion of these issues and the corresponding recommendations in this public memorandum, which is on file electronically via Enforcement and Compliance's Antidumping and Countervailing Duty Centralized Electronic Service System (ACCESS). ACCESS is available to registered users at http://access.trade.gov; the IDM is also available to all parties in the Central Records Unit, Room B8024, of the main Department of Commerce building. In addition, a complete version of the IDM can be accessed directly at http://enforcement.trade.gov/frn/index.html. The signed IDM and the electronic version of the IDM are identical in content.

Changes Since the Preliminary Results

Based on a review of the record and comments received from interested parties regarding our Preliminary Results, we made certain changes to the margin calculations performed for Devi.⁶

⁶ See IDM at 4.

⁷ This rate is based on the rates for the respondents that were selected for individual review, excluding rates that are zero, de minimis or based entirely on facts available. See section 735(c)(5)(A) of the Tariff Act of 1930, as amended (the Act).

Final Results of the Review

We are assigning the following dumping margins to the firms listed below for the period of February 1, 2016, through January 31, 2017:

Exporter/producer | Weighted-average dumping margin (percent)
Devi Fisheries Limited/Satya Seafoods Private Limited/Usha Seafoods/Devi Aquatech Private Limited | 1.35
Devi Marine Food Exports Private Ltd./Kader Exports Private Limited/Kader Investment and Trading Company Private Limited/Liberty Frozen Foods Pvt. Ltd./Liberty Oil Mills Ltd./Premier Marine Products Private Limited/Universal Cold Storage Private Limited | 0.00

Review-Specific Average Rate Applicable to the Following Companies: ⁷

Exporter/producer | Weighted-average dumping margin (percent)
Abad Fisheries | 1.35
Akshay Food Impex Private Limited | 1.35
Alashore Marine Exports (P) Ltd | 1.35
Alpha Marine | 1.35
Allana Frozen Foods Pvt. Ltd | 1.35
Allanasons Ltd | 1.35
AMI Enterprises | 1.35
Amulya Seafoods | 1.35
Amarsagar Seafoods Private Limited | 1.35
Ananda Aqua Applications/Ananda Aqua Exports (P) Limited/Ananda Foods | 1.35
Ananda Enterprises (India) Private Limited | 1.35
Angelique Intl | 1.35
Anjaneya Seafoods | 1.35
Apex Frozen Foods Private Limited | 1.35
Aquatica Frozen Foods Global Pvt. Ltd | 1.35
Arya Sea Foods Private Limited | 1.35
Asvini Exports | 1.35
Avanti Feeds Limited/Avanti Frozen Foods Private Limited | 1.35
Asvini Fisheries Ltd/Asvini Fisheries Private Limited | 1.35
Ayshwarya Seafood Private Limited | 1.35
B-One Business House Pvt. Ltd | 1.35
B R Traders | 1.35
Baby Marine Exports | 1.35
Baby Marine International | 1.35
Baby Marine Sarass | 1.35
Baby Marine Ventures | 1.35
Balasore Marine Exports Private Limited | 1.35
Bay Seafoods | 1.35
Bhatsons Aquatic Products | 1.35
Bhavani Seafoods | 1.35
Bijaya Marine Products | 1.35
Blue Fin Frozen Foods Pvt. Ltd | 1.35
Blue Water Foods & Exports P. Ltd | 1.35
Bluepark Seafoods Private Ltd | 1.35
BMR Exports | 1.35
BMR Industries Private Limited | 1.35
Britto Exports | 1.35
C P Aquaculture (India) Ltd | 1.35
Calcutta Seafoods Pvt. Ltd | 1.35
Canaan Marine Products | 1.35
Capithan Exporting Co | 1.35
Cargomar Private Limited | 1.35
Castlerock Fisheries Ltd | 1.35
Chakri Fisheries Private Limited | 1.35
Chemmeens (Regd) | 1.35
Cherukattu Industries (Marine Div.) | 1.35
Choice Trading Corporation Private Limited | 1.35
Coastal Aqua | 1.35
Coastal Corporation Ltd | 1.35
Cochin Frozen Food Exports Pvt. Ltd | 1.35
Coreline Exports | 1.35
Corlim Marine Exports Pvt. Ltd | 1.35
Crystal Sea Foods Private Limited | 1.35
D2 D Logistics Private Limited | 1.35
Damco India Private Limited | 1.35
Delsea Exports Pvt. Ltd | 1.35
Devi Sea Foods Limited ⁸ | 1.35
Diamond Seafoods Exports/Edhayam Frozen Foods Pvt. Ltd./Kadalkanny Frozen Foods/Theva & Company | 1.35
Esmario Export Enterprises | 1.35
Exporter Coreline Exports | 1.35
Falcon Marine Exports Limited/K.R. Enterprises | 1.35
Febin Marine Foods | 1.35
Five Star Marine Exports Private Limited | 1.35
Forstar Frozen Foods Pvt. Ltd | 1.35
Frontline Exports Pvt. Ltd | 1.35
G A Randerian Ltd | 1.35
Gadre Marine Exports | 1.35
Galaxy Maritech Exports P. Ltd | 1.35
Geo Aquatic Products (P) Ltd | 1.35
Geo Seafoods | 1.35
Goodwill Enterprises | 1.35
Grandtrust Overseas (P) Ltd | 1.35
Growel Processors Private Limited | 1.35
GVR Exports Pvt. Ltd | 1.35
Haripriya Marine Export Pvt. Ltd | 1.35
Harmony Spices Pvt. Ltd | 1.35
HIC ABF Special Foods Pvt. Ltd | 1.35
Hiravata Ice & Cold Storage | 1.35
Hiravati Exports Pvt. Ltd | 1.35
Hiravati International Pvt. Ltd. (located at APM—Mafco Yard, Sector—18, Vashi, Navi, Mumbai—400 705, India) | 1.35
Hiravati International Pvt. Ltd. (located at Jawar Naka, Porbandar, Gujarat, 360 575, India) | 1.35
HN Indigos Private Limited | 1.35
Hyson Logistics and Marine Exports Private Limited | 1.35
IFB Agro Industries Ltd | 1.35
Indian Aquatic Products | 1.35
Indo Aquatics | 1.35
Indo Fisheries | 1.35
Indo French Shellfish Company Private Limited | 1.35
Innovative Foods Limited | 1.35
International Freezefish Exports | 1.35
Interseas | 1.35
ITC Limited, International Business | 1.35
ITC Ltd | 1.35
Jagadeesh Marine Exports | 1.35
Jayalakshmi Sea Foods Pvt. Ltd | 1.35
Jinny Marine Traders | 1.35
Jiya Packagings | 1.35
K V Marine Exports | 1.35
Kalyan Aqua & Marine Exp. India Pvt. Ltd | 1.35
Kalyanee Marine | 1.35
Kanch Ghar | 1.35
Karunya Marine Exports Private Limited | 1.35
Kay Kay Exports | 1.35
Kings Marine Products | 1.35
KNC Agro Limited | 1.35
Koluthara Exports Ltd | 1.35
Landauer Ltd | 1.35
Libran Cold Storages (P) Ltd | 1.35
Magnum Estates Limited | 1.35
Magnum Export | 1.35
Magnum Sea Foods Limited | 1.35
Malabar Arabian Fisheries | 1.35
Malnad Exports Pvt. Ltd | 1.35
Mangala Marine Exim India Pvt. Ltd | 1.35
Mangala Sea Foods | 1.35
Mangala Sea Products | 1.35
Marine Harvest India | 1.35
Meenaxi Fisheries Pvt. Ltd | 1.35
Milesh Marine Exports Private Limited | 1.35
Monsun Foods Pvt. Ltd | 1.35
MTR Foods | 1.35
Munnangi Sea Foods Pvt. Ltd | 1.35
N.C. John & Sons (P) Ltd | 1.35
Naga Hanuman Fish Packers | 1.35
Naik Frozen Foods Private Limited | 1.35
Naik Seafoods Ltd | 1.35
Naik Oceanic Exports Pvt. Ltd/Rafiq Naik Exports Pvt. Ltd | 1.35
Neeli Aqua Private Limited | 1.35
Nekkanti Sea Foods Limited | 1.35
Nezami Rekha Sea Foods Private Limited | 1.35
NGR Aqua International | 1.35
Nila Sea Foods Pvt. Ltd | 1.35
Nine Up Frozen Foods | 1.35
Nutrient Marine Foods Ltd | 1.35
Oceanic Edibles International Limited | 1.35
Paragon Sea Foods Pvt. Ltd | 1.35
Paramount Seafoods | 1.35
Parayil Food Products Pvt. Ltd | 1.35
Pasupati Aquatics Private Limited | 1.35
Penver Products Pvt. Ltd | 1.35
Pesca Marine Products Pvt. Ltd | 1.35
Pijikay International Exports P Ltd | 1.35
Pisces Seafood International | 1.35
Pravesh Seafood Private Limited | 1.35
Premier Exports International | 1.35
Premier Marine Foods | 1.35
Premier Seafoods Exim (P) Ltd | 1.35
R V R Marine Products Limited | 1.35
Raa Systems Pvt. Ltd | 1.35
Raju Exports | 1.35
Ram's Assorted Cold Storage Ltd | 1.35
Raunaq Ice & Cold Storage | 1.35
Raysons Aquatics Pvt. Ltd | 1.35
Razban Seafoods Ltd | 1.35
RBT Exports | 1.35
RDR Exports | 1.35
RF Exports | 1.35
Riviera Exports Pvt. Ltd | 1.35
Rohi Marine Private Ltd | 1.35
Royal Marine Impex Private Limited | 1.35
Royale Marine Impex Pvt. Ltd | 1.35
RSA Marines | 1.35
S & S Seafoods | 1.35
S Chanchala Combines | 1.35
S. A. Exports | 1.35
Safa Enterprises | 1.35
Sagar Foods | 1.35
Sagar Grandhi Exports Pvt. Ltd | 1.35
Sagar Samrat Seafoods | 1.35
Sagarvihar Fisheries Pvt. Ltd | 1.35
Sai Marine Exports Pvt. Ltd | 1.35
Sai Sea Foods | 1.35
Salvam Exports (P) Ltd | 1.35
Sanchita Marine Products Private Limited | 1.35
Sandhya Aqua Exports | 1.35
Sandhya Aqua Exports Pvt. Ltd | 1.35
Sandhya Marines Limited | 1.35
Santhi Fisheries & Exports Ltd | 1.35
Sarveshwari Exports | 1.35
Sea Foods Private Limited | 1.35
Seagold Overseas Pvt. Ltd | 1.35
Selvam Exports Private Limited | 1.35
Sharat Industries Ltd | 1.35
Sharma Industries | 1.35
Shimpo Exports Pvt. Ltd | 1.35
Shimpo Seafoods Private Limited | 1.35
Shiva Frozen Food Exports Pvt. Ltd | 1.35
Shree Datt Aquaculture Farms Pvt. Ltd | 1.35
Shroff Processed Food & Cold Storage P Ltd | 1.35
Silver Seafood | 1.35
Sita Marine Exports | 1.35
Southern Tropical Foods Pvt. Ltd | 1.35
Sowmya Agri Marine Exports | 1.35
Sprint Exports Pvt. Ltd | 1.35
Sri Sakkthi Cold Storage | 1.35
Sri Venkata Padmavathi Marine Foods Pvt. Ltd | 1.35
Srikanth International | 1.35
Star Agro Marine Exports Private Limited | 1.35
Star Organic Foods Incorporated | 1.35
Star Organic Foods Private Limited | 1.35
Sterling Foods | 1.35
Sun-Bio Technology Ltd | 1.35
Sunrise Aqua Food Exports | 1.35
Supran Exim Private Limited | 1.35
Suryamitra Exim (P) Ltd | 1.35
Suvarna Rekha Exports Private Limited | 1.35
Suvarna Rekha Marines P Ltd | 1.35
TBR Exports Pvt. Ltd | 1.35
Teekay Marine P. Ltd | 1.35
The Waterbase Limited | 1.35
Triveni Fisheries P Ltd | 1.35
U & Company Marine Exports | 1.35
Ulka Sea Foods Private Limited | 1.35
Uniroyal Marine Exports Ltd | 1.35
Unitriveni Overseas | 1.35
V V Marine Products | 1.35
V.S. Exim Pvt. Ltd | 1.35
Vasai Frozen Food Co | 1.35
Vasista Marine | 1.35
Veejay Impex | 1.35
Veerabhadra Exports Private Limited | 1.35
Veronica Marine Exports Private Limited | 1.35
Victoria Marine & Agro Exports Ltd | 1.35
Vinner Marine | 1.35
Vitality Aquaculture Pvt., Ltd | 1.35
Wellcome Fisheries Limited | 1.35
West Coast Fine Foods (India) Private Limited | 1.35
West Coast Frozen Foods Private Limited | 1.35
Z A Sea Foods Pvt. Ltd | 1.35

Assessment Rates

⁸ Shrimp produced and exported by Devi Sea Foods was excluded from the antidumping duty order effective February 1, 2009. See Certain Frozen Warmwater Shrimp from India: Final Results of Antidumping Duty Administrative Review, Partial Rescission of Review, and Notice of Revocation of Order in Part, 75 FR 41813, 41814 (July 19, 2010). Accordingly, we are conducting this administrative review with respect to Devi Sea Foods only for shrimp produced in India where Devi Sea Foods acted as either the manufacturer or exporter (but not both).

Commerce shall determine, and U.S. Customs and Border Protection (CBP) shall assess, antidumping duties on all appropriate entries.

Because the weighted-average dumping margin for the Liberty Group is zero, we will instruct CBP to liquidate the appropriate entries without regard to antidumping duties.

Pursuant to 19 CFR 351.212(b)(1), because Devi reported the entered value for all its U.S. sales, we calculated importer-specific ad valorem duty assessment rates based on the ratio of the total amount of antidumping duties calculated for the examined sales to the total entered value of the sales for which entered value was reported. To determine whether the duty assessment rates are de minimis, in accordance with the requirement set forth in 19 CFR 351.106(c)(2), we calculated importer-specific ad valorem ratios based on the entered value.

For the companies which were not selected for individual examination, we used as the assessment rate the cash deposit rate assigned to these exporters, in accordance with our practice.⁹

⁹ See, e.g., Certain Frozen Warmwater Shrimp from India: Final Results of Antidumping Duty Administrative Review; 2015-2016, 82 FR 43517 (September 18, 2017) and Certain Frozen Warmwater Shrimp from India: Notice of Correction to the Final Results of the 2015-2016 Antidumping Duty Administrative Review, 82 FR 43740 (September 19, 2017).

Commerce's “automatic assessment” practice will apply to entries of subject merchandise during the POR produced by Devi or the Liberty Group for which these companies did not know that the merchandise was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Commerce intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the original less-than-fair-value (LTFV) investigation, but the manufacturer is, the cash deposit rate will be the rate established for the most recent period for the manufacturer of the merchandise; and (4) the cash deposit rate for all-other manufacturers or exporters will continue to be 10.17 percent, the all-others rate established in the LTFV investigation.¹¹ These deposit requirements, when imposed, shall remain in effect until further notice.

¹¹ See Notice of Amended Final Determination of Sales at Less Than Fair Value and Antidumping Duty Order: Certain Frozen Warmwater Shrimp from India, 70 FR 5147, 5148 (February 1, 2005).

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

We are issuing and publishing this notice in accordance with sections 751(a)(1) and 777(i) of the Act and 19 CFR 351.213(h).

Dated: July 10, 2018.
Gary Taverman,
Deputy Assistant Secretary for Antidumping and Countervailing Duty Operations, performing the non-exclusive functions and duties of the Assistant Secretary for Enforcement and Compliance.

Appendix

List of Topics Discussed in the IDM

I. Summary

II. Background

III. Scope of the Order

IV. Margin Calculations

V. Discussion of the Issues

1. Ministerial Errors for Devi

VI. Recommendation

[FR Doc. 2018-15115 Filed 7-13-18; 8:45 am]

BILLING CODE 3510-DS-P